DEPARTMENT OF ENERGY

Federal Energy Regulatory Commission

[Docket No. ER06-18-000]

Midwest Independent Transmission System Operator, Inc.; Notice of Technical Conference

March 17, 2006.

The Federal Energy Regulatory Commission is convening a technical conference regarding the Midwest Independent Transmission System Operator Inc.'s proposed cost allocation policy, as it pertains to the degree of regional cost sharing for reliability projects at 345 kV and above, pursuant to the Commission Order issued on February 3, 2006.¹ The conference will be held on Friday, April 21, 2006 at 10 a.m. (EST) at the Federal Energy Regulatory Commission, Commission Meeting Room, 888 First Street, NE., Washington, DC 20426. A separate notice will be issued by the Commission to announce the final agenda of the conference.

¹ Midwest Independent Transmission System Operator Inc., 114 FERC ¶ 61,106 (2006).

FERC conferences are accessible under section 508 of the Rehabilitation Act of 1973. For accessibility accommodations please send an e-mail to accessibility@ferc.gov or call toll free 1-866-208-3372 (voice) or 202-208-1659 (TTY); or send a Fax to 202-208-2106 with the required accommodations.

The conference is open for the public to attend, and registration is not required. For more information about the conference, please contact either Patrick Clarey at (317) 249-5937 or at patrick.clarey@ferc.gov or Eli Massey at (202) 502-8494 or at eli.massey@ferc.gov.

Magalie R. Salas,
Secretary.

[FR Doc. E6-4235 Filed 3-23-06; 8:45 am]

BILLING CODE 6717-01-P